DEPARTMENT OF HEALTH AND HUMAN SERVICES

Health Resources and Services Administration

Agency Information Collection Activities: Proposed Collection: Public Comment Request; the National Health Service Corps Loan Repayment Program

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this ICR must be received no later than October 28, 2016.

ADDRESSES: Submit your comments to paperwork@hrsa.gov or mail the HRSA Information Collection Clearance Officer, 5600 Fishers Lane, Room 14N-39, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the ICR title for reference.

Information Collection Request Title: The National Health Service Corps Loan Repayment Program.

OMB No.: 0915-0127—Revision.

Abstract: The National Health Service Corps (NHSC) Loan Repayment Program (LRP) was established to assure an adequate supply of trained primary care health professionals to provide services in the neediest Health Professional Shortage Areas (HPSAs) of the United States. Under this program, the Department of Health and Human Services agrees to repay the qualifying educational loans of selected primary care health professionals. In return, the health professionals agree to serve for a specified period of time in a NHSC-approved site located in a federally-designated HPSA approved by the Secretary for LRP participants. The forms utilized by the LRP include the following: The NHSC LRP Application, the Authorization for Disclosure of Loan Information form, the Privacy Act Release Authorization form, and if applicable, the Verification of Disadvantaged Background form and the Private Practice Option form. The first four of the aforementioned NHSC LRP forms collect information that is needed for selecting participants and repaying qualifying educational loans. The last referenced form, the Private Practice Option Form, is needed to collect information for all participants who have applied for that service option.

NHSC-approved sites are health care facilities that provide comprehensive outpatient, ambulatory, primary health care services to populations residing in HPSAs. Related in-patient services may be provided by NHSC-approved Critical Access Hospitals (CAHs). In order to become an NHSC-approved site, new sites must submit a Site Application for review and approval. Existing NHSC-approved sites are required to complete a Site Recertification Application in order to maintain their NHSC-approved status. Both the NHSC Site Application and Site Recertification Application request information on the clinical service site, sponsoring agency, recruitment contact, staffing levels, service users, charges for services, employment policies, and fiscal management capabilities. Assistance in completing these applications may be obtained through the appropriate State Primary Care Offices and the NHSC. The information collected on the applications is used for determining the eligibility of sites for the assignment of NHSC health professionals and to verify the need for NHSC clinicians. NHSC service site approval is valid for 3 years. Sites wishing to remain eligible for the assignment of NHSC providers, must submit a Site Recertification Application every 3 years.

The proposed ICR is a revision to OMB control number 0915-0127 (NHSC LRP) by combining OMB control number 0915-0230 (NHSC Site Application) and adding a new form to the ICR entitled the NHSC Comprehensive Behavioral Health Services Checklist.

Need and Proposed Use of the Information: The need and purpose of this information collection is to obtain information that is used to assess an LRP applicant's eligibility and qualifications for the LRP and to obtain information for NHSC site applicants. Clinicians interested in participating in the NHSC LRP must submit an application to the NHSC to participate in the program, and health care facilities located in HPSAs must submit an NHSC Site Application and Site Recertification Application to determine the eligibility of sites to participate in the NHSC as an approved service site. The NHSC LRP participant application asks for personal, professional and financial information needed to determine the applicant's eligibility to participate in the NHSC LRP. In addition, applicants must provide information regarding the loans for which repayment is being requested. NHSC policy requires behavioral health providers to practice in a community-based setting that provides access to comprehensive behavioral health services. Accordingly, for those sites seeking to be assigned behavioral health NHSC participants, additional site information collected from an NHSC Comprehensive Behavioral Health Services Checklist will be used. NHSC sites that do not directly offer all required behavioral health services must demonstrate a formal affiliation with a comprehensive, community-based primary behavioral health setting or facility to provide these services.

Likely Respondents: Likely respondents include the following: Licensed primary care medical, dental, and mental and behavioral health providers who are employed or seeking employment, and are interested in serving underserved populations; health care facilities interested in participating in the NHSC and becoming an NHSC-approved service site; NHSC sites providing behavioral health care services directly, or through a formal affiliation with a comprehensive community-based primary behavioral health setting or facility providing comprehensive behavioral health services.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
NHSC LRP Application | 8,200 | 1 | 8,200 | 1 | 8,200
Authorization for Disclosure of Loan Information Form | 6,500 | 1 | 6,500 | .10 | 650
Privacy Act Release Authorization Form | 275 | 1 | 275 | .10 | 27.5
Verification of Disadvantaged Background Form | 600 | 1 | 600 | .50 | 300
Private Practice Option Form | 300 | 1 | 300 | .10 | 30
NHSC Comprehensive Behavioral Health Services Checklist | 4,000 | 1 | 4,000 | .13 | 520
NHSC Site Application (including recertification) | 3,700 | 1 | 3,700 | .5 | 1,850
Total | 23,575 |  | 23,575 |  | 11,577.50

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jason E. Bennett,
Director, Division of the Executive Secretariat.

[FR Doc. 2016-20584 Filed 8-26-16; 8:45 am]

BILLING CODE 4165-15-P